DEPARTMENT OF TRANSPORTATION

Federal Aviation Administration

14 CFR Part 73

[Docket No. FAA-2008-0050; Airspace Docket No. 07-ASO-28]

RIN 2120-AA66

Amendment of Using Agencies for Restricted Areas R-5303A, B, C; R-5304A, B, C; and R-5306A, C, D, E; NC

AGENCY: Federal Aviation Administration (FAA), DOT.

ACTION: Final rule.

SUMMARY: This action amends the using agencies for restricted areas R-5303A, B, and C, Camp Lejeune, NC; R-5304A, B, and C, Camp Lejeune, NC; and R-5306A, C, D, and E, Cherry Point, NC, to reflect current organizational assignments and geographic responsibilities. This is an administrative change that does not alter the boundaries, designated altitudes, time of designation, or activities conducted within the restricted areas.

DATES: Effective Date: 0901 UTC, April 10, 2008.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

At the request of the U.S. Marine Corps, the FAA is amending 14 CFR part 73 to update the designated using agencies for restricted areas R-5303A, B, and C; R-5304A, B, and C; and R-5306A, C, D, and E in North Carolina. This action is the result of organizational realignments by the Marine Corps.

Section 73.53 of Title 14 CFR part 73 was republished in FAA Order 7400.8N, effective February 16, 2007.

The Rule

This action amends the names of the using agencies for the above restricted areas to replace the title “Commanding General” with “Commanding Officer,” and reflect the current division of airspace responsibilities between Marine Corps Air Station Cherry Point, NC, and Marine Corps Base Camp Lejeune, NC. This is an administrative change to reflect current organizational titles and geographic responsibilities. The change does not alter the boundaries, designated altitudes, time of designation, or activities conducted within the restricted areas. Therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends restricted areas in North Carolina.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.53 [Amended]

2. § 73.53 is amended as follows:

* * * * *

R-5303A, R-5303B and R-5303C Camp Lejeune, NC [Amended]

Under Using agency, by removing the words “USMC, Commanding General, U.S. Marine Corps Air Station, Cherry Point, NC” and inserting the words “USMC, Commanding Officer, U.S. Marine Corps Base Camp Lejeune, NC.”

* * * * *

R-5304A, R-5304B and R-5304C Camp Lejeune, NC [Amended]

Under Using agency, by removing the words “USMC, Commanding General, U.S. Marine Corps Air Station, Cherry Point, NC” and inserting the words “USMC, Commanding Officer, U.S. Marine Corps Base Camp Lejeune, NC.”

* * * * *

R-5306A and R-5306C Cherry Point, NC [Amended]

Under Using agency, by removing the words “Commanding General, U.S. Marine Corps Air Station, Cherry Point, NC” and inserting the words “USMC, Commanding Officer, U.S. Marine Corps Air Station Cherry Point, NC.”

R-5306D and R-5306E Cherry Point, NC [Amended]

Under Using agency, by removing the words “Commanding General, U.S. Marine Corps Air Station, Cherry Point, NC” and inserting the words “USMC, Commanding Officer, U.S. Marine Corps Base Camp Lejeune, NC.”

* * * * *

Issued in Washington, DC, on February 6, 2008.
Ellen Crum,
Acting Manager, Airspace and Rules Group.

[FR Doc. E8-2758 Filed 2-13-08; 8:45 am]

BILLING CODE 4910-13-P